DEPARTMENT OF LABOR

Office of the Secretary

Submission for OMB Review: Comment Request

August 19, 2009.

The Department of Labor (DOL) hereby announces the submission of the following public information collection request (ICR) to the Office of Management and Budget (OMB) for review and approval in accordance with the Paperwork Reduction Act of 1995 (Pub. L. 104-13, 44 U.S.C. chapter 35). A copy of this ICR, with applicable supporting documentation, including among other things a description of the likely respondents, proposed frequency of response, and estimated total burden may be obtained from the RegInfo.gov Web site at http://www.reginfo.gov/public/do/PRAMain or by contacting Darrin King on 202-693-4129 (this is not a toll-free number)/e-mail: DOL_PRA_PUBLIC@dol.gov.

Interested parties are encouraged to send comments to the Office of Information and Regulatory Affairs, Attn: OMB Desk Officer for the Department of Labor—ETA, Office of Management and Budget, Room 10235, Washington, DC 20503, Telephone: 202-395-7316/Fax: 202-395-5806 (these are not toll-free numbers), E-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration.

Type of Review: Extension without change of a currently approved collection.

Title of Collection: Forms for Agricultural Recruitment System Affecting Migratory Farm Workers.

OMB Control Number: 1205-0134.

Agency Form Numbers: ETA-790 and ETA-795.

Affected Public: Private Sector.

Total Estimated Number of Respondents: 8,356.

Total Estimated Annual Burden Hours: 8,606.

Total Estimated Annual Costs Burden (does not include hour costs): $29,471.

Description: Employers and farm labor contractors complete forms ETA-790 (the Agricultural and Food Processing Clearance Order) and ETA-795 (the Agricultural Food and Food Processing Clearance Memorandum) to recruit agricultural workers in compliance with the regulations at 20 CFR 653.500. These same forms are also used by State Workforce Agencies and One-Stop Career Centers to recruit workers from outside the local commuting area. For additional information, see related notice published at Volume 74 FR 7077 on February 12, 2009.

Darrin A. King,
Departmental Clearance Officer.

[FR Doc. E9-20326 Filed 8-24-09; 8:45 am]

BILLING CODE 4510-FW-P